DEPARTMENT OF COMMERCE

International Trade Administration

[C-570-980]

Crystalline Silicon Photovoltaic Cells, Whether or Not Assembled Into Modules, From the People's Republic of China: Final Results of Countervailing Duty Administrative Review and Rescission of Review, in Part; 2016

AGENCY: Enforcement and Compliance, International Trade Administration, Department of Commerce.

SUMMARY: The Department of Commerce (Commerce) determines that exporters and/or producers subject to the administrative review of crystalline silicon photovoltaic cells, whether or not assembled into modules (solar cells) from the People's Republic of China (China), received countervailable subsidies during the period of review (POR) January 1, 2016 through December 31, 2016.

DATES: Applicable August 28, 2019.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

Commerce published the Preliminary Results of this administrative review in the Federal Register on February 20, 2019.¹ We invited interested parties to comment on the Preliminary Results.

¹ See Crystalline Silicon Photovoltaic Cells, Whether or Not Assembled Into Modules, from the People's Republic of China: Preliminary Results of Countervailing Duty Administrative Review and Intent to Rescind the Review, in Part; 2016 (February 20, 2019) (Preliminary Results).

On May 23, 2019, we extended the deadline for issuing the final results of this administrative review to August 19, 2019.² On August 1, 2019, we received timely filed case briefs from the following interested parties: SolarWorld Americas, Inc. (the petitioner); the Government of China (the GOC); Canadian Solar, Inc. (Canadian Solar); and Jinko Solar Import & Export Co., Ltd. (Jinko Solar).³ On this same day, Changzhou Trina Solar Energy Co., Ltd., a non-selected company subject to this administrative review, submitted a letter in lieu of a case brief.⁴

² See Memorandum, “Administrative Review of the Countervailing Duty Order on Crystalline Silicon Photovoltaic Cells, Whether or Not Assembled Into Modules, from the People's Republic of China; 2016: Extension of Deadline for the Final Results,” dated May 23, 2019.

³ See, Petitioner's Letter, “Crystalline Silicon Photovoltaic Cells, Whether or not Assembled into Modules from the People's Republic of China: Case Brief,” dated August 1, 2019; GOC's Letter, “GOC Administrative Case Brief: Fifth Administrative Review of the Countervailing Duty Order on Crystalline Silicon Photovoltaic Cells, Whether or not Assembled into Modules from the People's Republic of China (C-570-980),” dated August 1, 2019; Canadian Solar's Letter, “Administrative Review of the Countervailing Duty Order on Crystalline Silicon Photovoltaic Cells, Whether or Not Assembled into Modules from the People's Republic of China: Case Brief,” dated August 1, 2019; and Jinko Solar's Letter, “Antidumping {sic} Duty Order on Crystalline Silicon Photovoltaic Cells, Whether or Not Assembled into Modules: Jinko's Case Brief,” dated August 1, 2019.

⁴ See Trina Solar's Letter, “Crystalline Silicon Photovoltaic Cells, Whether or Not Assembled Into Modules from the People's Republic of China: Letter in Lieu of Case Brief,” dated August 1, 2019.

On August 6, 2019, we received timely filed rebuttal briefs from the petitioner, the GOC, Canadian Solar, and Jinko Solar.⁵ Also on August 6, 2019, BYD (Shangluo) Industrial Co., Ltd. (BYD Shangluo) and Shanghai BYD Co., Ltd. (collectively, BYD Companies), which are non-selected companies that are subject to this administrative review, collectively submitted a letter in lieu of a rebuttal brief.⁶ For a detailed history of the events that occurred since the Preliminary Results, see the Issues and Decision Memorandum.⁷

⁵ See Petitioner's Letter, “Crystalline Silicon Photovoltaic Cells, Whether or Not Assembled into Modules from the People's Republic of China: Rebuttal Brief,” dated August 6, 2019; GOC's Letter, “GOC Administrative Case Brief: Fifth Administrative Review of the Countervailing Duty Order on Crystalline Silicon Photovoltaic Cells, Whether or not Assembled into Modules from the People's Republic of China (C-570-980), dated August 6, 2019; Canadian Solar's Letter, “Administrative Review of the Countervailing Duty Crystalline Silicon Photovoltaic Cells, Whether or Not Assembled into Modules from the People's Republic of China: Rebuttal Case Brief,” dated August 6, 2019; and Jinko Solar's Letter, “Antidumping {sic} Duty Order on Crystalline Silicon Photovoltaic Cells, Whether or Not Assembled into Modules: Jinko's Rebuttal Brief,” dated August 6, 2019.

⁶ See BYD Companies' Letter, “Crystalline Silicon Photovoltaic Cells, Whether Or Not Assembled Into Modules, from the People's Republic of China (2016 Review): Letter in Lieu of Rebuttal Brief,” dated August 6, 2019.

⁷ See Memorandum, “Decision Memorandum for Final Results of Countervailing Duty Administrative Review: Crystalline Silicon Photovoltaic Cells, Whether or Not Assembled Into Modules, from the People's Republic of China,” dated concurrently with, and hereby adopted by, this notice (Issues and Decision Memorandum).

Scope of the Order

The products covered by this countervailing duty (CVD) order are solar cells from China. A full description of the scope of the order is contained in the Issues and Decision Memorandum.

Analysis of Comments Received

All issues raised in the case and rebuttal briefs by interested parties are addressed in the Issues and Decision Memorandum. The Issues and Decision Memorandum is a public document and is on file electronically via Enforcement and Compliance's Antidumping and Countervailing Duty Centralized Electronic System (ACCESS). ACCESS is available to registered users at https://access.trade.gov, and is available to all parties in the Central Records Unit, Room B8024 of the main Commerce Building. In addition, a complete version of the Issues and Decision Memorandum can be accessed directly at http://enforcement.trade.gov/frn/. The signed Issues and Decision Memorandum and its electronic version are identical in content.

A list of the issues raised by interested parties, and to which we responded in the Issues and Decision Memorandum, is attached as the appendix to this notice.

Changes From the Preliminary Results

Based on our analysis of the comments received, Commerce made certain revisions to the CVD subsidy rates calculated for Canadian Solar and Jinko Solar (the mandatory company respondents). The Issues and Decision Memorandum contains descriptions of these revisions.

Methodology

Commerce conducted this review in accordance with section 751(a)(1)(A) of the Tariff Act of 1930, as amended (the Act). For each of the subsidy programs found to be countervailable, we find that there is a subsidy, i.e., a financial contribution from a government or public entity that gives rise to a benefit to the recipient, and that the subsidy is specific.⁸ For a full description of the methodology underlying all of Commerce's conclusions, including any determination that relied upon the use of facts available pursuant to sections 776(a) and (b) of the Act, see the Issues and Decision Memorandum.

⁸ See section 771(5)(B) and (D) of the Act regarding financial contribution; section 771(5)(E) of the Act regarding benefit; and section 771(5A) of the Act regarding specificity.

Partial Rescission of Administrative Review

As noted in the Preliminary Results, Commerce received a timely filed no-shipments certification from BYD Shangluo. Commerce inquired with U.S. Customs and Border Protection (CBP) as to whether BYD Shangluo shipped merchandise subject to this review to the United States during the POR. In response to our inquiry, CBP informed Commerce that it found no evidence of shipments concerning subject merchandise that were produced and/or exported by BYD Shangluo to the United States during the POR. Based on the no-shipments certification submitted by BYD Shangluo, and CBP's response to our no-shipments inquiry, we are rescinding this review with respect to BYD Shangluo in accordance with 19 CFR 351.213(d)(3).

Final Results of Administrative Review

In accordance with section 777A(e) of the Act and 19 CFR 351.221(b)(5), we calculated a countervailable subsidy rate for the two mandatory respondents, Canadian Solar and Jinko Solar. For the non-selected companies subject to this review, we followed our practice, which is to base the subsidy rates on an average of the subsidy rates calculated for those companies selected for individual review, excluding de minimis rates or rates based entirely on adverse facts available.⁹ In this case, for the non-selected companies, we calculated a rate by weight-averaging the calculated subsidy rates of the two mandatory respondents using their publicly-ranged sales data for exports of subject merchandise to the United States during the POR. We find the countervailable subsidy rates for the producers/exporters under review to be as follows:

⁹ See, e.g., Certain Pasta from Italy: Preliminary Results of the 13th (2008) Countervailing Duty Administrative Review, 75 FR 18806, 18811 (April 13, 2010), unchanged in Certain Pasta from Italy: Final Results of the 13th (2008) Countervailing Duty Administrative Review, 75 FR 37386 (June 29, 2010); see also Issues and Decision Memorandum at the section, “Non-Selected Companies Under Review.”

¹⁰ Cross-owned affiliates are: Canadian Solar Inc.; Canadian Solar Manufacturing (Luoyang) Inc.; Canadian Solar Manufacturing (Changshu) Inc.; CSI Cells Co., Ltd.; CSI Solar Power (China) Inc. (name was changed to CSI Solar Power Group Co., Ltd. in December 2016); CSI Solartronics (Changshu) Co., Ltd.; CSI Solar Technologies Inc.; CSI New Energy Holding Co., Ltd. (name was CSI Solar Manufacture Inc. until July 2015); CSI-GCL Solar Manufacturing (Yancheng) Co., Ltd.; Changshu Tegu New Materials Technology Co., Ltd.; Changshu Tlian Co., Ltd.; and Suzhou Sanysolar Materials Technology Co., Ltd.

¹¹ Cross-owned affiliates are: Jinko Solar Import and Export Co., Ltd.; Jinko Solar Co., Ltd.; Zhejiang Jinko Solar Co., Ltd.; Jinko Solar (Shanghai) Management Co., Ltd.; Jiangxi Jinko Photovoltaic Materials Co., Ltd.; and Xinjiang Jinko Solar Co., Ltd.

Company | Subsidy rate (percent)
Canadian Solar Inc. and Cross-Owned Affiliates ¹⁰ | 9.70
Jinko Solar Import and Export Co., Ltd. and Cross-Owned Affiliates ¹¹ | 12.76

Review-Specific Rate Applicable to the Non-Selected Companies Subject to this Review:

Producer/exporter | Subsidy rate (percent ad valorem)
Baoding Jiasheng Photovoltaic Technology Co., Ltd | 11.81
Baoding Tianwei Yingli New Energy Resources Co., Ltd | 11.81
Beijing Tianneng Yingli New Energy Resources Co., Ltd | 11.81
Canadian Solar (USA) Inc | 11.81
Changzhou Trina Solar Energy Co., Ltd | 11.81
Changzhou Trina Solar Yabang Energy Co., Ltd | 11.81
Chint Solar (Zhejiang) Co., Ltd | 11.81
Dongguan Sunworth Solar Energy Co., Ltd | 11.81
ERA Solar Co. Limited | 11.81
ET Solar Energy Limited | 11.81
Hainan Yingli New Energy Resources Co., Ltd | 11.81
Hangzhou Sunny Energy Science and Technology Co., Ltd | 11.81
Hengdian Group DMEGC Magnetics Co., Ltd | 11.81
Hengshui Yingli New Energy Resources Co., Ltd | 11.81
JA Solar Technology Yangzhou Co., Ltd | 11.81
JA Technology Yangzhou Co., Ltd | 11.81
Jiangsu High Hope Int'l Group | 11.81
Jiawei Solarchina (Shenzhen) Co., Ltd | 11.81
Jiawei Solarchina Co., Ltd | 11.81
JingAo Solar Co., Ltd | 11.81
Jinko Solar (U.S.) Inc | 11.81
Jinko Solar International Limited | 11.81
Lightway Green New Energy Co., Ltd | 11.81
Lixian Yingli New Energy Resources Co., Ltd | 11.81
Luoyang Suntech Power Co., Ltd | 11.81
Nice Sun PV Co., Ltd | 11.81
Ningbo Qixin Solar Electrical Appliance Co., Ltd | 11.81
Risen Energy Co., Ltd | 11.81
Shanghai BYD Co., Ltd | 11.81
Shanghai JA Solar Technology Co., Ltd | 11.81
Shenzhen Glory Industries Co., Ltd | 11.81
Shenzhen Topray Solar Co., Ltd | 11.81
Sumec Hardware & Tools Co., Ltd | 11.81
Systemes Versilis, Inc | 11.81
Taizhou BD Trade Co., Ltd | 11.81
tenKsolar (Shanghai) Co., Ltd | 11.81
Tianjin Yingli New Energy Resources Co., Ltd | 11.81
Toenergy Technology Hangzhou Co., Ltd | 11.81
Trina Solar (Changzhou) Science & Technology Co., Ltd | 11.81
Wuxi Suntech Power Co., Ltd | 11.81
Yancheng Trina Solar Energy Technology Co., Ltd | 11.81
Yingli Energy (China) Co., Ltd | 11.81
Yingli Green Energy Holding Company Limited | 11.81
Yingli Green Energy International Trading Company Limited | 11.81
Zhejiang Era Solar Technology Co., Ltd | 11.81
Zhejiang Sunflower Light Energy Science & Technology Limited Liability Company | 11.81

Disclosure

We will disclose to the parties in this proceeding the calculations performed for these final results within five days of publication of this notice in the Federal Register.¹²

¹² See 19 CFR 351.224(b).

Assessment Rates

Consistent with 19 CFR 351.212(b)(2), we intend to issue assessment instructions to CBP 15 days after the date of publication of these final results of review, to liquidate shipments of subject merchandise produced and/or exported by the companies listed above, entered, or withdrawn from warehouse, for consumption on or after January 1, 2016 through December 31, 2016, at the ad valorem rates listed above.

Cash Deposit Instructions

In accordance with section 751(a)(1) of the Act, we intend to instruct CBP to collect cash deposits of estimated countervailing duties in the amounts shown for each of the respective companies listed above. These cash deposit requirements, when imposed, shall remain in effect until further notice.

Administrative Protective Order (APO)

This notice also serves as a reminder to parties subject to APO of their responsibility concerning the destruction of proprietary information disclosed under APO in accordance with 19 CFR 351.305(a)(3). Timely written notification of the return or destruction of APO materials or conversion to judicial protective order is hereby requested. Failure to comply with the regulations of an APO is a sanctionable violation.

Notification to Interested Parties

We are issuing and publishing these final results in accordance with sections 751(a)(1) and 777(i)(1) of the Act.

Dated: August 19, 2019.
Jeffrey I. Kessler,
Assistant Secretary for Enforcement and Compliance.

Appendix

List of Topics Discussed in the Issues and Decision Memorandum

I. Summary

II. Background

III. List of Interested Party Comments

IV. Scope of the Order

V. Changes Since the Preliminary Results

VI. Partial Rescission of Administrative Review

VII. Non-Selected Companies Under Review

VIII. Subsidies Valuation Information

IX. Use of Facts Available and Adverse Inferences

X. Programs Determined to be Countervailable

XI. Programs Determined to be Not Used or Not to Confer a Measurable Benefit During the POR

XII. Analysis of Comments

Comment 1: Export Buyer's Credit Program

Comment 2: Provision of Aluminum Extrusions for Less Than Adequate Remuneration (LTAR)

Comment 3: Provision of Electricity for LTAR

Comment 4: Solar Grade Polysilicon Benchmark

Comment 5: Solar Glass Benchmark

Comment 6: Land Benchmark

Comment 7: Ocean Freight Benchmark

Comment 8: Commerce's Use of “Zeroing” in Benefit Calculations

Comment 9: Creditworthiness

Comment 10: Calculation Methodology for Canadian Solar's Subsidy Rate

Comment 11: Canadian Solar's Denominator for the Golden Sun Program

Comment 12: Entered Value Adjustment Regarding Canadian Solar

Comment 13: Clerical Errors in Canadian Solar's Benefit Calculations

XIII. Recommendation

[FR Doc. 2019-18557 Filed 8-27-19; 8:45 am]

BILLING CODE 3510-DS-P